DEPARTMENT OF COMMERCE

National Oceanic and Atmospheric Administration

RIN 0648-XB144

[Endangered Species; File No. 13330]

Receipt of Application for a Permit Modification

AGENCY: National Marine Fisheries Service (NMFS), National Oceanic and Atmospheric Administration (NOAA), Commerce.

ACTION: Notice; receipt of application for a permit modification.

SUMMARY: Notice is hereby given that NMFS Southeast Fisheries Center (SEFSC) (hereinafter “Permit Holder”); 75 Virginia Beach Drive, Miami, FL 33149 [Responsible Party: Bonnie Ponwith, Ph.D.], has requested a modification to scientific research Permit No. 13330-01.

DATES: Written, telefaxed, or email comments must be received on or before May 2, 2012.

ADDRESSES: The modification request and related documents are available for review by selecting “Records Open for Public Comment” from the Features box on the Applications and Permits for Protected Species (APPS) home page, https://apps.nmfs.noaa.gov/, and then selecting File No. 13330 from the list of available applications. These documents are also available upon written request or by appointment in the following offices:

Permits and Conservation Division, Office of Protected Resources, NMFS, 1315 East-West Highway, Room 13705, Silver Spring, MD 20910; phone (301)427-8401; fax (301)713-0376; and

Southeast Region, NMFS, 263 13th Ave. South, St. Petersburg, FL 33701; phone (727)824-5312; fax (727)824-5309.

Written comments on this application should be submitted to the Chief, Permits and Conservation Division, at the address listed above. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Colette Cairns or Malcolm Mohead, (301)427-8401.

SUPPLEMENTARY INFORMATION: The subject modification to Permit No. 13330-01, is requested under the authority of the Endangered Species Act of 1973, as amended (16 U.S.C. 1531 et seq.) and the regulations governing the taking, importing, and exporting of endangered and threatened species (50 CFR 222-226).

Permit No. 13330-01, issued on March 17, 2011 (76 FR 14650), authorizes the permit holder to: Capture 45 smalltooth sawfish (15 from each of three life stages) annually by longline, gillnet, seine net, drum (set) lines, or rod and reel throughout Florida's coastal waters, but primarily in the region of the Florida coast from Naples to Key West, encompassing the Ten Thousand Islands. All captured sawfish are measured, tagged, sampled, and released. Current tagging methods include rototags (fin tags), dart tags, umbrella dart tags, Passive Integrated Transponder (PIT) tags, acoustic transmitters, and Pop-Up Archival Transmitting (PAT) tags. Tissue and blood samples are also taken. The permit holder now requests authorization for an increase in take numbers to 50 individuals from each of the three life stages (neonates, juveniles, and adults) for a total of 150 smalltooth sawfish annually. All research objectives, capture methods, action areas, and activities would remain unchanged. The modification would be valid until the permit expires on October 31, 2013.

Dated: March 27, 2012.
Tammy C. Adams,
Acting Chief, Permits and Conservation Division, Office of Protected Resources, National Marine Fisheries Service.

[FR Doc. 2012-7886 Filed 3-30-12; 8:45 am]

BILLING CODE 3510-22-P